JUDICIAL CONFERENCE OF THE UNITED STATES

Meeting of the Judicial Conference Advisory Committee on Rules of Appellate Procedure

AGENCY: Judicial Conference of the United States; Advisory Committee on Rules of Appellate Procedure.

ACTION: Notice of open meeting.

SUMMARY: The Advisory Committee on Rules of Appellate Procedure will hold a one-day meeting. The meeting will be open to public observation but not participation.

DATES: November 9, 2004.

Time: 8:30 a.m to 5 p.m.

ADDRESSES: Wyndham Grand Bay Coconut Grove Hotel, 2669 South Bay Shore Drive, Miami, Florida.

FOR FURTHER INFORMATION CONTACT: John K. Rabiej, Chief, Rule Committee Support Office, Administrative Office of the United States Courts, Washington, DC 20544, Telephone (202) 502-1820.

Dated: September 3, 2004.
John K. Rabiej,
Chief, Rules Support Office.

[FR Doc. 04-20578 Filed 9-10-04; 8:45 am]

BILLING CODE 2210-55-M